DEPARTMENT OF JUSTICE

Notice of Lodging of Proposed Consent Decree Under the Clean Air Act

On June 2, 2021, the Department of Justice lodged with the United States District Court for the Southern District of Indiana a Consent Decree in United States and State of Indiana v. Lone Star Industries, Inc. Civ. No. 2:21-cv-233-JRS-MJD.

The proposed Consent Decree settles claims brought by the United States and State of Indiana against Lone Star for violations of the Clean Air Act and Title 13 of the Indiana Code (including regulations and permits issued thereunder) at the cement manufacturing facility it owns and operates in Greencastle, Indiana. The Consent Decree resolves these claims and requires Lone Star to (1) pay a civil penalty of $729,000 to be split evenly between the state and United States; (2) implement specified measures designed to prevent the continuation or reoccurrence of the violations alleged, and (3) complete various mitigation projects to offset harm caused by its past violations.

The publication of this notice opens a period for public comment on the proposed Consent Decree. Comments should be addressed to the Assistant Attorney General, Environment and Natural Resources Division and should refer to United States and State of Indiana v. Lone Star Industries, Inc. D.J. Ref. No. 90-5-2-1-09889/4. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $12.25 (25 cents per page reproduction cost) payable to the United States Treasury.

Patricia A. McKenna,
Assistant Section Chief, Environmental Enforcement Section, Environment and Natural Resources Division.

[FR Doc. 2021-12115 Filed 6-9-21; 8:45 am]

BILLING CODE 4410-15-P